DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW., Washington, DC.

Docket Number: 05-057. Applicant: Consortium for Astro-particle Research in Utah/University of Utah, Suite 200, 215 South State Street, Salt Lake City, Utah 84111. Instrument: Fluorescent Telescope Array; with Ground Scintillator, Laser Atmosphere Monitor and LAN Network. Manufacturer: Various; Japan, UK. Intended Use: The instrument is intended to be used in a joint US-Japan scientific project to measure the energy, pointing direction and chemical composition of ultra high energy cosmic rays using both the fluorescence technique, which uses large telescopes to observe fluorescent tracks from cosmic ray showers in the atmosphere and the secondary shower charged particle technique, which uses ground-based light sensing photo-tubes and counters to measure the number and timing of particle arrival. Results obtained by these techniques will be cross correlated for greater precision and making comparisons. Application accepted by Commissioner of Customs: December 13,2005.

Docket Number: 05-058. Applicant: Villanova University, 800 Lancaster Ave., Villanova, PA 19085 Instrument: Electron Microscope. Manufacturer: Hitachi High-Technologies Corporation, Japan. Intended Use: The instrument is intended to be used for biological studies of: lipid rafts, developing muscle in birds, changes in ultrastructure of rat uteri following drug and hormone treatments, comparative ultrastructure of plants from extreme environments, ultrastructure of kinetoplastid flagellates in insects, etc. Materials science applications include examination of carbon nanotubes, metal nanoparticles, virus constructs, and plasmids. It will also be used for educational purposes. Application accepted by Commissioner of Customs: December 27, 2005.

Docket Number: 06-001. Applicant: Medical College of Georgia, 1120 15th Street, CB- 3909, Augusta, GA 30912. Instrument: Micromanipulator System. Manufacturer: Luigs & Neuman. Intended Use: The instrument is intended to be used to maneuver electrophysiology equipment that requires precision in its location which will be centered around a confocal microscope. The overall goal of the research is to understand the development, structure and function of dendritic spines as they may relate to synapse and signaling in epileptic patients. Application accepted by Commissioner of Customs: January 11, 2006.

Gerald A. Zerdy,
Program Manager Statutory Import Programs Staff.

[FR Doc. E6-1116 Filed 1-27-06; 8:45 am]

BILLING CODE 3510-DS-S